DEPARTMENT OF LABOR

Occupational Safety and Health Administration

[Docket No. OSHA-2009-0026]

Curtis-Straus LLC; Application for Renewal of Recognition; Correction

AGENCY: Occupational Safety and Health Administration (OSHA), Labor.

ACTION: Notice; correction.

SUMMARY: The Occupational Safety and Health Administration (OSHA) published a document in the Federal Register on October 11, 2011 (76 FR 62850), announcing the application of Curtis-Straus LLC for renewal of its recognition as a Nationally Recognized Testing Laboratory (NRTL), and presented the Agency's preliminary finding to deny the application. The document contained an incorrect docket number. This notice corrects the docket number.

FOR FURTHER INFORMATION CONTACT: Bernard Pasquet, Office of Technical Programs and Coordination Activities, NRTL Program, U.S. Department of Labor, Room N-3655, 200 Constitution Avenue NW., Washington, DC 20210; telephone (202) 693-2110.

Corrections

In the Federal Register of October 11, 2011 (76 FR 62850-62856), correct the docket number as described below.

1. On page 62850, in the third line of the heading section, change the Docket No. to read:

[Docket No. OSHA-2009-0026]

2. On page 62851, in the first column, change the paragraph titled “Mail, hand delivery, express mail, or messenger or courier service” to read:

Submit one copy of the comments to the OSHA Docket Office, Docket No. OSHA-2009-0026, U.S. Department of Labor, Room N-2625, 200 Constitution Avenue NW., Washington, DC 20210. The Docket Office accepts deliveries (hand, express mail, and messenger and courier service) during the Department of Labor's and Docket Office's normal business hours, 8:15 a.m.-4:45 p.m., E.T.

3. On page 62851, in the first column, change the paragraph titled “Instructions” to read:

All submissions must include the Agency name and the OSHA docket number (i.e., OSHA-2009-0026). OSHA will place all submissions, including any personal information provided, in the public docket without revision, and will make these submissions available online at http://www.regulations.gov

4. On page 62856, in the first column, change the second paragraph under “V. Preliminary Finding” to read:

OSHA welcomes public comment as to whether CSL meets the requirements of 29 CFR 1910.7 for renewal of its recognition as an NRTL. Comments should consist of pertinent written documents and exhibits. Commenters needing more time to comment must submit a request in writing, stating the reasons for the request. OSHA must receive the written request for an extension by the due date for comments (see DATES above). OSHA will limit any extension to 30 days unless the requester justifies a longer period. OSHA may deny a request for an extension if the requester does not adequately justify it. To obtain or review copies of the publicly available information in CSL's application and other pertinent documents (including exhibits), and all submitted comments, contact the Docket Office, Room N-2625, Occupational Safety and Health Administration, U.S. Department of Labor, at the address listed above under ADDRESSES; these materials also are available online at http://www.regulations.gov under Docket No. OSHA-2009-0026.

Signed at Washington, DC, on November 22, 2011.
David Michaels,
Assistant Secretary of Labor for Occupational Safety and Health.

[FR Doc. 2011-30661 Filed 11-28-11; 8:45 am]

BILLING CODE 4510-26-P